DEPARTMENT OF JUSTICE

[AAG/A Order No. 298-2002]

Privacy Act of 1974: System of Records

Pursuant to the Privacy Act of 1974 (5 U.S.C. 552a), the Department of Justice, Office of Professional Responsibility (OPR), proposes to modify the following system of records previously published in full text in the Federal Register on December 10, 1998 (63 FR 68299 (1998)): Office of Professional Responsibility Record Index, JUSTICE/OPR-001.

OPR is adding three new routine uses to this system of records. The first routine use allows the disclosure of information to contractors and others working on behalf of OPR when necessary to accomplish an OPR function related to this system of records. The second routine use allows the disclosure of information to former employees of the Department for the purpose of responding to official inquiries by government entities or professional licensing authorities in accordance with applicable Department regulations. This routine use also allows disclosure to former employees where the Department requires information and consultation assistance from the former employee that is necessary for personnel-related or other official purposes. The third routine use will allow the disclosure of information to members of the judicial branch of the Federal government in response to a written request where disclosures are relevant to the authorized function of the recipient judicial office or court system.

Title 5 U.S.C. 552a(e)(4)(11) provides that the public be given a 30-day period in which to comment on the proposed new routine use disclosures. The Office of Management and Budget (OMB), which has oversight responsibilities under the Privacy Act, requires a 40-day period in which to conclude its review of any proposal to add new routine use disclosures or make other major modifications.

You may submit any comments by December 27, 2002. The public, OMB and the Congress are invited to send comments to Mary Cahill, Management Analyst, Management and Planning Staff, Justice Management Division, Department of Justice, Room 1400 National Place Building, Washington, DC 20530. If no comments are received, the proposal will be implemented without further notice in the Federal Register.

In accordance with 5 U.S.C. 552a(r), the Department has provided a report to OMB and the Congress on the proposed new routine uses.

Dated: November 15, 2002.
Robert F. Diegelman,
Acting Assistant Attorney General for Administration.

JUSTICE/OPR-001

System Name:

Office of Professional Responsibility Record Index.

* * * * *

Routine Uses of Records Maintained in the System, Including Categories of Users and the Purposes of Such Uses:

* * * * *

* * * (10) information may be furnished to professional organizations or associations with which individuals covered by this system of records may be affiliated, such as state bar disciplinary authorities, to meet their responsibilities in connection with the administration and maintenance of standards of conduct and discipline.

[Following this sentence insert the three paragraphs below.]

(11) Relevant information contained in this system of records may be disclosed to contractors, grantees, experts, consultants, students, and others performing or working on a contract, service, grant, cooperative agreement, or other assignment for the Federal Government, when necessary to accomplish an agency function related to this system of records.

(12) Relevant and necessary information may be disclosed to former employees of the Department of Justice for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

(13) Relevant information contained in this system of records may be disclosed to a member of the judicial branch of Federal Government in response to a written request where disclosures are relevant to the authorized function of the recipient judicial office or court system.

* * * * *

[FR Doc. 02-29879 Filed 11-26-02; 8:45 am]

BILLING CODE 4410-28-P